TENNESSEE VALLEY AUTHORITY

Paperwork Reduction Act of 1995, as Amended by Pub. L. 106-398; Proposed Collection; Comment Request

AGENCY: Tennessee Valley Authority (TVA).

ACTION: Proposed collection; comment request.

SUMMARY: The proposed information collection described below will be submitted to the Office of Management and Budget (OMB) for review, as required by the Paperwork Reduction Act of 1995 (44 U.S.C. Chapter 35 as amended). The Tennessee Valley Authority is soliciting public comments on this proposed collection as provided by 5 CFR 1320.8(d)(1). Requests for information including copies of the information collection proposed and supporting documentation should be directed to the Agency Clearance Officer: Wilma H. McCauley, Tennessee Valley Authority, 1101 Market Street (EB 5B), Chattanooga, Tennessee, 37402-2801; (423) 751-2523. Comments should be sent to the Agency Clearance Officer no later than August 4, 2003.

SUPPLEMENTARY INFORMATION: Type of Request: Regular Submission.

Title of Information Collection: Macro Opinion Benchmark.

Frequency of Use: On occasion.

Small Businesses or Organizations Affected: Yes.

Estimated Number of Annual Responses: 3000.

Estimated Total Annual Burden Hours: 550.

Estimated Annual Burden Hours Per Response: 11 minutes.

Need For and Use of Information: TVA is committed to strengthening relationships with its stakeholders. One way the TVA will accomplish this is by using the proposed public opinion research to understand, measure and manage positive and negative perceptions that stakeholders hold about TVA. This will enable TVA to develop and implement actions that will help TVA achieve excellence in stakeholder relations and communications processes for Valley residents.

Jacklyn J. Stephenson,
Senior Manager, Enterprise Operations, Information Services.

[FR Doc. 03-14132 Filed 6-4-03; 8:45 am]

BILLING CODE 8120-08-P